CORPORATION FOR NATIONAL AND COMMUNITY SERVICE

Sunshine Act Meetings

The Board of Directors of the Corporation for National and Community Service (operating as AmeriCorps) gives notice of the following meeting:

TIME AND DATE: Wednesday, November 20, 2024, 1:00 p.m.-2:00 p.m. (ET).

PLACE: AmeriCorps, 250 E Street SW, Washington, DC 20525. For health and safety reasons, this will be a virtual meeting.

• To register for the meeting, please use this link: https://americorps.zoomgov.com/webinar/register/WN_2g06wm-NSzOcWzFTDtMWaA.

• Webinar ID: 161 300 7199.

• Passcode: 625067.

• To participate by phone, call toll free: 833 568 8864.

STATUS: Open to the public.

MATTERS TO BE CONSIDERED:

I. Opening Remarks by the Chair

II. CEO Report

III. OGA Committee Report Out

IV. Spotlight: AmeriCorps will share details from its new Volunteering and Civic Life in America research, a comprehensive look at how Americans make a difference in their communities and promote the common good.

V. Chair's Closing Remarks and Adjournment

Members of the public who would like to comment on the business of the Board may do so in writing or virtually. Submit written comments to board@americorps.gov with the subject line: “Comments for November 20, 2024, AmeriCorps Board Meeting” no later than 5:00 p.m. (ET) November 13, 2024. Individuals who would like to comment during the meeting will be given instructions for signing up when they join the meeting. Comments are requested to be limited to two minutes.

AmeriCorps provides reasonable accommodation to individuals with disabilities, where needed.

CONTACT PERSON FOR MORE INFORMATION: Meliha Tokay by telephone: 202-914-6854 or by email: board@americorps.gov.

Andrea Grill,
Acting General Counsel.

[FR Doc. 2024-26385 Filed 11-8-24; 11:15 am]

BILLING CODE 6050-28-P